DEPARTMENT OF TRANSPORTATION

Federal Aviation Administration

14 CFR Part 71

[Docket No. FAA-2003-16596; Airspace Docket No. 03-ASO-20]

Amendment of Class D, E2 and E4 Airspace; Columbus Lawson AAF, GA, and Class E5 Airspace; Columbus, GA; Correction

AGENCY: Federal Aviation Administration (FAA), DOT.

ACTION: Correcting amendment.

SUMMARY: This document contains a correction to the final rule (FAA-2003-16596; 03-ASO-20), which was published in the Federal Register on March 23, 2004 (69 FR 13467), amending Class E5 airspace at Columbus, GA. This action changes the Lawson 127° localizer (LOC) course to the 145° LOC course.

EFFECTIVE DATE: 0901 UTC, May 12, 2005.

FOR FURTHER INFORMATION CONTACT: Mark D. Ward, Manager, Airspace and Operations Branch, Air Traffic Division, Federal Aviation Administration, PO Box 20636, Atlanta, Georgia 30320; telephone (404) 305-5627.

SUPPLEMENTARY INFORMATION:

Background

Federal Register Document 04-6380, Docket No. FAA-2003-16596; Airspace Docket 03-ASO-20, published on March 23, 2004 (69 FR 13467), amends Class E5 airspace at Columbus, GA, as a result of the relocation of the Lawson Army Airfield (AAF) Instrument Landing System (ILS) and the extension of Runway (RWY) 15-33. This action corrects the published docket.

Designations for Class E airspace areas extending upward from 700 feet or more above the surface of the earth are published in Paragraph 6005 of FAA Order 7400.9M, dated August 30, 2004, and effective September 16, 2004, which is incorporated by reference in 14 CFR 71.1. The Class E designation listed in this document will be published subsequently in the Order.

Need for Correction

As published, the final rule contains an error that incorrectly identifies the LOC course for the Lawson AAF ILS RWY 33 Standard Instrument Approach Procedure (SIAP). Accordingly, pursuant to the authority delegated to me, the legal description for the Class E5 airspace area at Columbus, GA, incorporated by reference at § 71.1, 14 CFR 71.1, and published in the Federal Register on March 23, 2004 (69 FR 13467), is corrected by making the following correcting amendment.

List of Subjects in 14 CFR Part 71

Airspace, Incorporation by reference, Navigation (air).

In consideration of the foregoing, the Federal Aviation Administration corrects the adopted amendment, 14 CFR part 71, by making the following correcting amendment:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Corrected]

2. The incorporation by reference in 14 CFR 71.1 of Federal Aviation Administration Order 7400.9M, Airspace Designations and Reporting Points, dated August 30, 2004, and effective September 16, 2004, is amended as follows:

Paragraph 6005 Class E airspace areas extending upward from 700 feet or more above the surface of the earth.

* * * * *

ASO GA E5 Columbus, GA [Corrected]

Columbus Metropolitan Airport, GA

(Lat 32°30′59″ N, long. 84°56′20″ W)

Lawson AAF, GA

(Lat. 32°20′14″ N, long. 84°59′29″ W)

Lawson VOR/DME

(Lat. 32°19′57″ N, long. 84°59′36″ W)

Lawson LOC

(Lat. 32°20′43″ N, long. 84°59′55″ W)

That airspace extending upward from 700 feet above the surface within a 10-mile radius of Columbus Metropolitan Airport and within a 7.6-mile radius of Lawson AAF and within 2.5 miles each side of Lawson VOR/DME 340° radial, extending from the 7.6-mile radius to 15 miles north of the VOR/DME and within 4 miles each side of the Lawson LOC 145° course, extending from the 7.6-mile radius to 10.6 miles southeast of Lawson AAF.

* * * * *

Issued in College Park, Georgia on February 16, 2005.
Mark D. Ward,
Acting Area Director, Air Traffic Division, Southern Region.

[FR Doc. 05-4750 Filed 3-9-05; 8:45 am]

BILLING CODE 4910-13-M